DEPARTMENT OF TRANSPORTATION

Federal Aviation Administration

14 CFR Part 39

[Docket No. FAA-2009-0479; Directorate Identifier 2009-NM-006-AD; Amendment 39-15918; AD 2009-11-08]

RIN 2120-AA64

Airworthiness Directives; Airbus Model A330-202, -223, -243, -301, -322, and -342 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

During the A330 and A340 aircraft fatigue test, cracks appeared on the right and left sides between the crossing area of the keel angle fitting and the front spar of the Centre Wing Box (CWB). Several modifications have been introduced in the fleet in the area of frame [FR] 40 keel angle assembly in order to prevent these cracks. However the new design has caused interference between one fastener and the keel angle which was corrected by further local reprofiling of the keel angle horizontal flange. Analysis shows that without an inspection of this reprofiled area, the structural integrity of the area is impacted, which constitutes an unsafe condition.

* * * * *

This AD requires actions that are intended to address the unsafe condition described in the MCAI.

DATES: This AD becomes effective June 12, 2009.

The Director of the Federal Register approved the incorporation by reference of a certain publication listed in the AD as of June 12, 2009.

We must receive comments on this AD by June 29, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The European Aviation Safety Agency (EASA), which is the Technical Agent for the Member States of the European Community, has issued EASA Airworthiness Directive 2008-0213, dated December 8, 2008 (referred to after this as “the MCAI”), to correct an unsafe condition for the specified products. The MCAI states:

During the A330 and A340 aircraft fatigue test, cracks appeared on the right and left sides between the crossing area of the keel angle fitting and the front spar of the Centre Wing Box (CWB). Several modifications have been introduced in the fleet in the area of frame [FR] 40 keel angle assembly in order to prevent these cracks. However the new design has caused interference between one fastener and the keel angle which was corrected by further local reprofiling of the keel angle horizontal flange. Analysis shows that without an inspection of this reprofiled area, the structural integrity of the area is impacted, which constitutes an unsafe condition.

In order to maintain the structural integrity of the aircraft, this Airworthiness Directive (AD) requires a repetitive special detailed inspection [high frequency eddy current to detect cracking] on the horizontal flange of the keel beam in the area of first fastener hole aft of FR40, and in case of cracks to repair accordingly.

You may obtain further information by examining the MCAI in the AD docket.

Relevant Service Information

Airbus has issued Mandatory Service Bulletin A330-53-3151, Revision 01, including Appendix 1, dated September 25, 2008. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2009-0479; Directorate Identifier 2009-NM-006-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-11-08 Airbus: Amendment 39-15918. Docket No. FAA-2009-0479; Directorate Identifier 2009-NM-006-AD.

Effective Date

(a) This airworthiness directive (AD) becomes effective June 12, 2009.

Affected ADs

(b) None.

Applicability

(c) This AD applies to Airbus Model A330-202, -223, -243, -301, -322 and -342 airplanes; certificated in any category; serial numbers 0177, 0181, 0183, 0184, 0188, 0189, 0191, 0195, 0198, 0200, 0203, 0205, 0206, 0209, 0211, 0219, 0222, 0223, 0224, 0226, 0229, 0230, 0231, 0232, 0234, 0238, 0240, 0241, 0244, 0247, 0248, 0249, 0250, 0251, 0253, 0254, and 0255.

Subject

(d) Air Transport Association (ATA) of America Code 53: Fuselage.

Reason

(e) The mandatory continued airworthiness information (MCAI) states:

During the A330 and A340 aircraft fatigue test, cracks appeared on the right and left sides between the crossing area of the keel angle fitting and the front spar of the Centre Wing Box (CWB). Several modifications have been introduced in the fleet in the area of frame [FR] 40 keel angle assembly in order to prevent these cracks. However the new design has caused interference between one fastener and the keel angle which was corrected by further local reprofiling of the keel angle horizontal flange. Analysis shows that without an inspection of this reprofiled area, the structural integrity of the area is impacted, which constitutes an unsafe condition.

In order to maintain the structural integrity of the aircraft, this Airworthiness Directive (AD) requires a repetitive special detailed inspection [high frequency eddy current to detect cracking] on the horizontal flange of the keel beam in the area of first fastener hole aft of FR40 and in case of cracks to repair accordingly.

Actions and Compliance

(f) Unless already done, do the following actions.

(1) Within 90 days after the effective date of this AD, or at the applicable time specified in paragraph (f)(1)(i) or (f)(1)(ii) of this AD, whichever occurs later, perform a special detailed (high frequency eddy current) inspection to detect cracking of the keel beam fitting horizontal flange edge at FR40 on the left-hand and right-hand sides of the fuselage, in accordance with the instructions of Airbus Mandatory Service Bulletin A330-53-3151, Revision 01, dated September 25, 2008.

(i) For Model A330-301, -322, and -342 airplanes: Before accumulating 14,500 total flight cycles or 37,000 total flight hours from the first flight of the airplane, whichever occurs first.

(ii) For Model A330-202, -223, and -243 airplanes: Before accumulating 14,100 total flight cycles or 70,600 total flight hours from the first flight of the airplane, whichever occurs first.

(2) If no crack is detected during the inspection required by paragraph (f)(1) of this AD, repeat the inspection specified in paragraph (f)(1) of this AD thereafter at intervals not to exceed the times specified in paragraph (f)(2)(i) or (f)(2)(ii) of this AD, as applicable.

(i) For Model A330-301, -322, and -342 airplanes: 6,230 flight cycles or 15,900 flight hours, whichever occurs first.

(ii) For Model A330-202, -223, and -243 airplanes: 6,060 flight cycles or 30,300 flight hours, whichever occurs first.

(3) If any crack is found during any inspection required by this AD, before further flight, contact Airbus and follow their corrective actions.

(4) Airplanes that have already been inspected prior to the effective date of this AD in accordance with the instructions of Airbus Service Bulletin A330-53-3151, dated December 6, 2005, are compliant with the requirements of paragraph (f)(1) of this AD (initial inspection). However, after the effective date of this AD, the repetitive inspections must be continued in accordance with the instructions of Airbus Mandatory Service Bulletin A330-53-3151, Revision 01, dated September 25, 2008, as specified in paragraph (f)(1) of this AD.

(5) At the applicable time specified in paragraph (f)(5)(i) or (f)(5)(ii) of this AD, submit a report of the results (both positive and negative) of the inspection required by paragraph (f)(1) of this AD, in accordance with Airbus Mandatory Service Bulletin A330-53-3151, Revision 01, dated September 25, 2008. Send the report to Airbus SAS—Customer Services Directorate, 1 Rond Point Maurice Bellonte, 31707 Blagnac Cedex, France; Attention SEDCC1 Technical Data and Documentation Services, fax +33 5 61 93 28 06, e-mail sb.reporting@airbus.com.

(i) If the inspection was done on or after the effective date of this AD: Submit the report within 30 days after the inspection.

(ii) If the inspection was accomplished prior to the effective date of this AD: Submit the report within 30 days after the effective date of this AD.

FAA AD Differences

Note 1: This AD differs from the MCAI and/or service information as follows: No differences.

Other FAA AD Provisions

(g) The following provisions also apply to this AD:

(1) Alternative Methods of Compliance (AMOCs): The Manager, International Branch, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to (MCAI) European Aviation Safety Agency (EASA) Airworthiness Directive 2008-0213, dated December 8, 2008; and Airbus Mandatory Service Bulletin A330-53-3151, Revision 01, dated September 25, 2008; for related information.

Material Incorporated by Reference

(i) You must use Airbus Mandatory Service Bulletin A330-53-3151, Revision 01, including Appendix 1, dated September 25, 2008, to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on May 15, 2009.
Ali Bahrami,
Manager, Transport Airplane Directorate, Aircraft Certification Service.

[FR Doc. E9-12113 Filed 5-27-09; 8:45 am]

BILLING CODE 4910-13-P